DEPARTMENT OF HEALTH AND HUMAN SERVICES

Administration for Children and Families

Proposed Comment Request for Review of ACF Disaster Case Management Implementation Guide; Office of Human Services Emergency Preparedness and Response

AGENCY: Administration for Children and Families, Department of Health and Human Services.

ACTION: Notice.

SUMMARY: In accordance with the Paperwork Reduction Act of 1995 (Pub. L. 104-13, May 22, 1995), this notice announces that the Administration for Children and Families (ACF), Office of Human Services Emergency Preparedness and Response (OHSEPR) intends to submit notice in the Federal Register for comments on the ACF Disaster Case Management Implementation Guide, dated December 2009.

Disaster case management is the process of organizing and providing a timely, coordinated approach to assess disaster-related needs including health care, mental health and human services needs that were caused or exacerbated by the event and may adversely impact an individual's recovery if not addressed. Disaster case management facilitates the delivery of appropriate resources and services, works with a client to implement a recovery plan and advocates for the client's needs to assist him/her in returning to a pre-disaster status while respecting human dignity. If necessary, Disaster case management helps transition the client with pre-existing needs to existing case management providers after disaster-related needs are addressed. This is facilitated through the provision of a single point of contact for disaster assistance applicants who need a wide variety of services that may be provided by many different organizations.

The purpose of Disaster case management is to rapidly return individuals and families who have survived a disaster to a state of self-sufficiency. This is accomplished by ensuring that each individual has access to a Case Manager who will capture information about the individual's situation and then serve as his/her advocate and help him/her organize and access disaster-related resources, human services, health care and mental health care that will help him/her achieve pre-disaster levels of functioning and equilibrium. The service is particularly critical in situations where large-scale mortality, injuries, or personal property damage have occurred. Disaster case management is based on the principles of self-determination, self-sufficiency, federalism, flexibility and speed, and support to States.

Comments are particularly invited on: the program guidelines of the ACF Disaster Case Management Pilot Program; and recommendations on program improvements based on valid evidence and methodology.

For a copy of the ACF Disaster Case Management Implementation Guide, please visit http://www.acf.hhs.gov/ohsepr/dcm/dcm.guide.html, or contact James Davis at 202-744-0091 or james.davis@acf.hhs.gov.

DATES: Comments must be received on or before May 7, 2010.

ADDRESSES: Send or deliver comments to James Davis, National Case Management Analyst, Office of Human Services Emergency Preparedness and Response, Administration for Children and Families, 370 L'Enfant Promenade, SW., 6th Floor West, Washington, DC 20447 or via e-mail to james.davis@acf.hhs.gov.

FOR FURTHER INFORMATION CONTACT: CAPT Roberta P. Lavin, Director, Office of Human Services Emergency Preparedness and Response (OHSEPR), at roberta.lavin@acf.hhs.gov or 202-401-9306; Sylvia R. Menifee, Deputy Director (Operations), OHSEPR, at sylvia.menifee@acf.hhs.gov or 202-401-1448; James Davis, National Case Management Analyst, OHSEPR, at james.davis@acf.hhs.gov or 202-744-0091.

SUPPLEMENTARY INFORMATION: The Administration for Children and Families, within the Department of Health and Human Services is responsible for Federal programs that promote the economic and social well-being of families, children, individuals, and communities. ACF programs aim to achieve the following:

• Families and individuals empowered to increase their own economic independence and productivity;

• Strong, healthy, supportive communities that have a positive impact on the quality of life and the development of children;

• Partnerships with individuals, front-line service providers, communities, American Indian tribes, Native communities, States, and Congress that enable solutions which transcend traditional agency boundaries;

• Services planned, reformed, and integrated to improve needed access; and

• A strong commitment to working with people with developmental disabilities, refugees, and migrants to address their needs, strengths, and abilities.

Dated: March 26, 2010.
Carmen R. Nazario,
Assistant Secretary for Children and Families.

[FR Doc. 2010-7330 Filed 3-31-10; 8:45 am]

BILLING CODE 4184-01-P